DEPARTMENT OF THE INTERIOR

Bureau of Land Management

[OR-027-1610-PG-020H; G 3-0068]

Steens Mountain Advisory Council; Notice of Intent to Call for Nominations

AGENCY: Bureau of Land Management (BLM), Burns District.

ACTION: Notice of Intent to Call for Nominations for the Steens Mountain Advisory Council (SMAC).

SUMMARY: BLM is publishing this notice under section 9(a)(2) of the Federal Advisory Committee Act. Pursuant to the Steens Mountain Cooperative Management and Protection Act of 2000 (Pub. L. 106-399), BLM gives notice that the Secretary of the Interior intends to call for nominations for vacating positions to the SMAC. This notice requests the public to submit nominations for membership on the SMAC.

Any individual or organization may nominate one or more persons to serve on the SMAC. Individuals may nominate themselves for SMAC membership. Nomination forms may be obtained from the Burns District Office, Bureau of Land Management (see address below). To make a nomination, submit a completed nomination form, letters of reference from the represented interests or organizations, as well as any other information that speaks to the nominee's qualifications, to the Burns District Office. Nominations may be made for the following categories of interest:

• One person who is a recognized environmental representative for the State as a whole (appointed from nominees submitted by the Governor of Oregon);

• A person interested in fish and recreational fishing (appointed from nominees submitted by the Governor of Oregon);

• A person who is a recreational permit holder or is a representative of a commercial recreation operation (appointed jointly by the Oregon State Director of the BLM and the County Court for Harney County, Oregon); and

• A private landowner in the Steens Mountain Cooperative Management and Protection Area (CMPA) (appointed by the County Court for Harney County, Oregon).

The specific category the nominee will represent should be identified in the letter of nomination. The Burns District will collect the nomination forms and letters of reference and distribute them to the officials responsible for submitting nominations (County Court of Harney County, the Governor of Oregon, and BLM). BLM will then forward recommended nominations to the Secretary of the Interior, who has responsibility for making the appointments.

DATES: Nominations should be submitted to the address listed below no later than 30 days after publication of this notice.

FOR FURTHER INFORMATION CONTACT: Rhonda Karges, Management Support Specialist, Burns District Office, 28910 Hwy 20 West, Hines, Oregon 97738, (541) 573-4433, or <Rhonda_Karges@or.blm.gov> or from the following Web sites <http://www.or.blm.gov/Burns> or <http://www.or.blm.gov/steens> (P.L. 106-399 in its entirety can be found on the Steens Web site as previously cited.)

SUPPLEMENTARY INFORMATION: The purpose of the SMAC is to advise BLM on the management of the CMPA as described in Title 1 of Public Law 106-399. Each member will be a person who, as a result of training and experience, has knowledge or special expertise which qualifies him or her to provide advice from among the categories or interest listed above.

Members of the SMAC are appointed for terms of 3 years, except that, of the members first appointment, four members were appointed for a term of 1 year and four members were appointed for a term of 2 years. The State environmental representative, recreational permit holder, private landowner, and fish and recreational fishing positions were all 2-year terms and will expire August 2003. These four positions will all be replaced with 3-year terms, and will begin no earlier than August 2003.

Members will serve without monetary compensation, but will reimbursed for travel and per diem expenses at current rates for Government employees. The SMAC shall meet only at the call of the Designated Federal Official, but not less than once per year.

Dated: January 31, 2003.
Thomas H. Dyer,
Designated Federal Official, Bureau of Land Management.

[FR Doc. 03-3477 Filed 2-11-03; 8:45 am]

BILLING CODE 4310-33-M